OCCUPATIONAL SAFETY AND HEALTH REVIEW COMMISSION

Senior Executive Service Performance Review Board Membership

AGENCY: Occupational Safety and Health Review Commission.

ACTION: Annual Notice.

SUMMARY: Notice is given under 5 U.S.C. 4314(c)(4) of the appointment of members to the Performance Review Board (PRB) of the Occupational Safety and Health Review Commission.

DATES: Membership is effective on January 20, 2015.

FOR FURTHER INFORMATION CONTACT: Linda M. Beard, Human Resources Specialist, U.S. Occupational Safety and Health Review Commission, 1120 20th Street NW., Washington, DC 20036, (202) 606-5393.

SUPPLEMENTARY INFORMATION: The Review Commission, as required by 5 U.S.C. 4314(c) (1) through (5), has established a Senior Executive Service PRB. The PRB reviews and evaluates the initial appraisal of a senior executive's performance by the supervisor, and makes recommendations to the Chairman of the Review Commission regarding performance ratings, performance awards, and pay-for-performance adjustments. Members of the PRB serve for a period of 24 months. In the case of an appraisal of a career appointee, more than half of the members shall consist of career appointees, pursuant to 5 U.S.C. 4314(c)(5). The names and titles of the PRB members are as follows:

• Shireen L. Dodson, Ombudsman, U.S. Department of State;

• Linda J. Dreeben, Deputy Associate General Counsel, National Labor Relations Board;

• Tracy Murrell, Director, Office of Marine Safety, National Transportation Safety Board; and

• Victor Thompson, Director and HQ Chief Information Officer, National Aeronautics and Space Administration.

Dated: January 12, 2015.
Thomasina V. Rogers,
Chairman.

[FR Doc. 2015-00683 Filed 1-16-15; 8:45 am]

BILLING CODE 7600-01-P